DEPARTMENT OF ENERGY

Federal Energy Regulatory Commission

[Docket No. ER00-2852-000]

Central Power and Light Company, West Texas Utilities Company, Public Service Company of Oklahoma, Southwestern Electric Power Company; Notice of Filing

June 19, 2000.

Take notice that on June 14, 2000, Central Power and Light Company (CPL), West Texas Utilities Company (WTU), Public Service Company of Oklahoma (PSO), and Southwestern Electric Power Company (SWEPCO) (collectively, the CSW Operating Companies) tendered for filing a notice pursuant to the Commission's order issued on May 8, 2000 in the matter of North American Electric Reliability Council, docket No. ER00-1666-000, stating that: (1) They use the North American Electric Reliability Council's revised Transmission Loading Relief procedures; and (2) their open access transmission service tariff shall be considered so modified. The TLR procedures will apply to those portions of the CSW Operating Companies' transmission systems that are located in the Eastern Interconnection.

The CSW Operating Companies request an effective date of March 1, 2000 for the TLR procedures, and therefore respectfully request waiver of the Commission's notice requirements.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 5, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-16015 Filed 6-23-00; 8:45 am]

BILLING CODE 6717-01-M